DEPARTMENT OF DEFENSE

Department of the Army; Corps of Engineers

Intent To Prepare a General Reevaluation Report and Draft Environmental Impact Statement for the Atlantic Coast of Maryland Shoreline Protection Project, Ocean City, MD

AGENCY: Department of the Army, U.S. Army Corps of Engineers, DOD.

ACTION: Notice of intent.

SUMMARY: In accordance with the National Environmental Policy Act (NEPA), the Baltimore District, U.S. Army Corps of Engineers (USACE), will conduct a General Reevaluation Report (GRR) and Draft Environmental Impact Statement (DEIS) to evaluate new sand borrow areas for the continued beach replenishment at Ocean City, Maryland, and potential modifications to the existing project to better protect Ocean City at areas of high erosion.

The Atlantic Coast of Maryland Shoreline Protection Project, Ocean City, Maryland, is designed to provide coastal flood and erosion protection to Ocean City. As part of the project design, periodic renourishment and maintenance of the beach are required to maintain the design level of protection. Every four years, approximately 800,000 cubic yards of sand are required to renourish and maintain the beaches. The original feasibility report identified borrow areas that will be consumed within the next eight years (two beach renourishment cycles) or less, assuming no extreme storm events. Estimates show that approximately 10-12 million cubic yards of sand are needed to maintain the four-year cycles for the remaining project life. The District proposes to analyze, evaluate, and select the best site(s) for additional borrow material.

In addition, the project has experienced three persistent areas of erosion, or hot spots, that have required significant amounts of sand renourishment since the project's inception. These areas, centered on 32nd Street, 81st Street, and 146th Street have been examined in the past, and several potential cost-effective solutions were identified. The second purpose of this reevaluation study and resulting GRR is to analyze, evaluate, and select the best alternative to reduce maintenance costs for two of the three areas. The area at 146th Street has been addressed by the Corps' Philadelphia District's Fenwick Island, Delaware, Interim Feasibility Study—Final Integrated Feasibility Report and Environmental Impact Statement.

The study will be conducted in compliance with Section 404 and Section 401 of the Clean Water Act, Section 7 of the Endangered Species Act, the Clean Air Act, the U.S. Fish and Wildlife Coordination Act, Section 106 of the National Historic Preservation Act, Prime and Unique Farmlands, the Magnuson-Stevens Fishery Conservation and Management Act, and National Pollutant Discharge Elimination System Act. All appropriate documentation (i.e., Section 7, Section 106 coordination letters, and public and agency comments) will be obtained and included as part of the Environmental Impact Statement (EIS).

FOR FURTHER INFORMATION CONTACT: Questions about the proposed action and DEIS can be addressed to Mr. Harold K. Clingerman, U.S. Army Corps of Engineers, ATTN: CENAB-PL-P, 10 South Howard Street, P.O. Box 1715, Baltimore, MD, 21203-1715, telephone 410-962-2650; e-mail address: harold.k.clingerman@usace.army.mil

SUPPLEMENTARY INFORMATION: 1. In September 1991 construction of the shoreline protection features of the project were essentially complete and the project was dedicated on October 30, 1991. The project consists of widening and raising the beach from 4th street to the Maryland-Delaware line (about 8.2 miles) and a 0.3 mile transition into Delaware, construction of a steel sheetpile bulkhead from 4th street to the north end of the boardwalk at 28th Street (about 1.5 miles), construction of a sand dune from the north end of the boardwalk to the Maryland-Delaware line (about 6.7 miles plus a 0.3 mile transition into Delaware), and project operation and maintenance (non-Federal cost). The long-term features of the project include monitoring and renourishment (cost shared 53%/47%) over an economic life of 50 years. Maintenance of the dune and berm above +6 feet NGVD is the financial responsibility of the non-Federal sponsor.

2. As part of the EIS process, recommendations of borrow areas and project modifications will be based on an evaluation of the probable impact of the proposed activity on the public interest. The decision will reflect the national concern for the protection and utilization of important resources. The benefit, which may reasonably be expected to accrue from the proposal, will be balanced against its reasonably foreseeable detriments. All factors that may be relevant to the proposal will be considered, among these are: Fish and wildlife resources; cultural resources; land use; water and air quality; hazardous, toxic, and radioactive substances; threatened and endangered species; regional geology; aesthetics; environmental justice; and the general needs and welfare of the public.

3. The DEIS for the GRR is expected for public release in late 2004.

Wesley E. Coleman, Jr.,
Chief, Civil Project Development Branch.

[FR Doc. 03-26434 Filed 10-20-03; 8:45 am]

BILLING CODE 3710-41-M